DEPARTMENT OF HEALTH AND HUMAN SERVICES

National Institutes of Health

National Institute of Mental Health; Amended Notice of Meeting

Notice is hereby given of a change in the meeting of the National Institute of Mental Health Special Emphasis Panel, March 12, 2007, 8 a.m. to March 12, 2007, 3 p.m., Embassy Suites at the Chevy Chase Pavilion, 4300 Military Road, NW., Washington, DC, 20015 which was published in the Federal Register on February 13, 2007, 72 FR 6740.

The meeting will include an Open session from 8 a.m. to 8:30 a.m. for concept clearance of a proposed RFA on Anorexia. The remainder of the meeting will be Closed for grant review. The meeting is partially Closed to the public.

Dated: March 9, 2007.
Anna Snouffer,
Acting Director, Office of Federal Advisory Committee Policy.

[FR Doc. 07-1219 Filed 3-15-07; 8:45 am]

BILLING CODE 4140-01-M